DEPARTMENT OF THE INTERIOR

National Park Service

[NPS-WASO-NAGPRA-NPS0039519; PPWOCRADN0-PCU00RP14.R50000]

Notice of Inventory Completion: Northwestern University, Evanston, IL

AGENCY: National Park Service, Interior.

ACTION: Notice.

SUMMARY: In accordance with the Native American Graves Protection and Repatriation Act (NAGPRA), Northwestern University has completed an inventory of human remains and has determined that there is a cultural affiliation between the human remains and Indian Tribes or Native Hawaiian organizations in this notice.

DATES: Repatriation of human remains in this notice may occur on or after April 17, 2025.

ADDRESSES: Dr. Eli Suzukovich III, Northwestern University, 633 Clark Street Evanston, IL 60208, telephone (847) 491-4133, email eli.iii@northwestern.edu (preferred contact).

SUPPLEMENTARY INFORMATION: This notice is published as part of the National Park Service's administrative responsibilities under NAGPRA. The determinations in this notice are the sole responsibility of the Northwestern University and additional information on the determinations in this notice, including the results of consultation, can be found in its inventory or related records. The National Park Service is not responsible for the determinations in this notice.

Abstract of Information Available

Human remains representing MNI of at least three individuals have been identified and are associated with the Mound Cemetery Site in Racine, Wisconsin. There are no associated funerary objects present with these remains. The three bone fragments are most likely surface finds found in Racine, Wisconsin around 1933. The remains likely date from the Woodland (A.D. 2,500-900) to the Upper Mississippian/Oneota Period (A.D. 900-1,200) based on their association with the effigy mounds of southern Wisconsin, specifically Racine County. Information for this notice was acquired through research on Oscar W. Junek MD, and an informal interview with Dr. James A. Brown. Confirmation of the site of origin of the remains by Dr. Amy L. Rosebrough, Wis. State Archaeologist.

Taphonomy

The frontal and parietal bones have a dark tea-stained appearance with a greenish stain (possibly from copper leaching) which is also shared by the mandible. It is not conclusive, but the mandible may be from the same individual or from the same burial mound/area. The clavicle is lighter in staining and may have had some sun exposure. Based only on taphonomy, the clavicle does not match the frontal-parietal bones or the mandible

No hazardous substances are known to have been used to treat any of the human remains.

Cultural Affiliation

Based on the information available and the results of consultation, cultural affiliation is reasonably identified by the geographical location or acquisition history of the human remains described in this notice.

Determinations

Northwestern University has determined that:

• The human remains described in this notice represent the physical remains of three individuals of Native American ancestry.

• There is a connection between the human remains described in this notice and are culturally affiliated with the Forest County Potawatomi Community, Wisconsin; Ho-Chunk Nation of Wisconsin; Iowa Tribe of Kansas and Nebraska; Iowa Tribe of Oklahoma; Menominee Indian Tribe of Wisconsin; Otoe-Missouria Tribe of Indians, Oklahoma; Prairie Band Potawatomi Nation; Sac & Fox Nation of Missouri in Kansas and Nebraska; Sac & Fox Nation in Oklahoma; Sac & Fox Tribe of the Mississippi in Iowa; and the Winnebago Tribe of Nebraska.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 17, 2025. If competing requests for repatriation are received, the Northwestern University must determine the most appropriate requestor prior to repatriation. Requests for joint repatriation of the human remains and associated funerary objects are considered a single request and not competing requests. The Northwestern University is responsible for sending a copy of this notice to the Indian Tribes and Native Hawaiian organizations identified in this notice.

Authority: Native American Graves Protection and Repatriation Act, 25 U.S.C. 3003, and the implementing regulations, 43 CFR 10.10.

Dated: February 11, 2025.
Melanie O'Brien,
Manager, National NAGPRA Program.

[FR Doc. 2025-04385 Filed 3-17-25; 8:45 am]

BILLING CODE 4312-52-P